DEPARTMENT OF COMMERCE

Patent and Trademark Office

37 CFR Parts 2 and 7

[Docket No.: PTO-T-2007-0005]

RIN 0651-AC11

Correspondence With the Madrid Processing Unit of the United States Patent and Trademark Office

AGENCY: United States Patent and Trademark Office, Commerce.

ACTION: Final rule.

SUMMARY: The United States Patent and Trademark Office (Office) revises the rules of practice to change the address for correspondence with the Madrid Processing Unit of the Office. The Office relocated to Alexandria, Virginia, in 2004, and hereby changes the address for correspondence with the Office relating to filings pursuant to the Protocol Relating to the Madrid Agreement Concerning the International Registration of Marks to an Alexandria, Virginia address.

DATES: Effective Date: The changes in this final rule are effective April 16, 2007.

FOR FURTHER INFORMATION CONTACT: Jennifer Chicoski, Office of the Commissioner for Trademarks, (571) 272-8943, or via e-mail at Jennifer.chicoski@uspto.gov.

SUPPLEMENTARY INFORMATION: In connection with the relocation of the Office to Alexandria, Virginia, in 2004, the Office previously changed most of its correspondence addresses so that correspondence has been routed through a United States Postal Service (USPS) facility that is more conveniently located to the Office. A post office box had been retained in Arlington, Virginia, the previous location of the Office, for the acceptance of certain correspondence, including submissions to the Madrid Processing Unit (MPU) of the Office.

The Office has now made arrangements so that correspondence to the MPU may be routed to the Office at its current location. In connection with the address change, the USPS has provided a separate routing +4 zip code to distinguish mail for the MPU from other Office mail, and all correspondence to the MPU should now be sent to the Office's main headquarters, addressed with the separate routing +4 zip code.

The Office appreciates that it will take some period of time for all persons filing correspondence with the MPU to become accustomed to the address change. Although the address change is effective immediately, the Office plans to arrange for continued delivery of correspondence addressed to the MPU's former Arlington, Virginia 22215 address as a courtesy for a limited period of time. The Office cannot ensure the availability of the Arlington, Virginia Post Office Box for receipt of MPU correspondence after October 31, 2007.

The Office also is adding reference to a particular type of correspondence, requests to note replacements under § 7.28, that are presently not identified in the rule as being accepted by mail or via hand delivery, in order to clarify that the Office does accept such requests by mail or by hand during the hours the Office is open to receive correspondence.

Discussion of Specific Rules

The Office is amending §§ 2.190(e) and 7.4(b) to provide that international applications under § 7.11, subsequent designations under § 7.21, responses to notices of irregularity under § 7.14, requests to record changes in the International Register under § 7.23 and § 7.24, requests to note replacement under § 7.28, requests for transformation under § 7.31, and petitions to the Director to review an action of the Office's MPU, when filed by mail, must be addressed to: Madrid Processing Unit, 600 Dulany Street, MDE-7B87, Alexandria, VA 22314-5793. The Office is amending § 7.4(b)(2) to add that requests to note replacement under § 7.28, when filed by mail, will be accorded the date of receipt in the Office. The Office is amending § 7.4(c) to add requests to note replacement under § 7.28 to the list of correspondence that may be hand-delivered to the Office.

Rule Making Requirements

Administrative Procedure Act: Since this final rule is directed to changing the address for filing certain correspondence with the Office, this final rule merely involves rules of agency organization, procedure, or practice within the meaning of 5 U.S.C. 553(b)(A). Accordingly, this final rule may be adopted without prior notice and opportunity for public comment under 5 U.S.C. 553(b) and (c), or thirty-day advance publication under 5 U.S.C. 553(d).

Regulatory Flexibility Act: As prior notice and an opportunity for public comment are not required pursuant to 5 U.S.C. 553 (or any other law), a regulatory flexibility analysis under the Regulatory Flexibility Act (5 U.S.C. 601 et seq.) is not required. See 5 U.S.C. 603.

Executive Order 13132: This rule making does not contain policies with federalism implications sufficient to warrant preparation of a Federalism Assessment under Executive Order 13132 (Aug. 4, 1999).

Executive Order 12866: This rule making has been determined to be not significant for purposes of Executive Order 12866 (Sept. 30, 1993).

Paperwork Reduction Act: This rule making does not create any new information collection requirements under the Paperwork Reduction Act of 1995 (44 U.S.C. 3501 et seq.).

Notwithstanding any other provision of law, no person is required to respond to nor shall a person be subject to a penalty for failure to comply with a collection of information subject to the requirements of the Paperwork Reduction Act unless that collection of information displays a currently valid OMB control number. The collection of this information has been approved by OMB under control number 0651-0055.

List of Subjects

37 CFR Part 2

Administrative practice and procedure, Trademarks.

37 CFR Part 7

Administrative practice and procedure, Trademarks, International Registration.

For the reasons given in the preamble and under the authority contained in 15 U.S.C. 1123 and 35 U.S.C. 2, as amended, the Office is amending parts 2 and 7 of Title 37 of the Code of Federal Regulations, as follows:

PART 2—RULES OF PRACTICE IN TRADEMARK CASES

1. The authority citation for part 2 continues to read:

Authority: 15 U.S.C. 1123, 35 U.S.C. 2, unless otherwise noted.

2. Amend § 2.190 by revising paragraph (e) to read as follows:

§ 2.190 Addresses for trademark correspondence with the United States Patent and Trademark Office.

* * * * *

(e) Certain Documents Relating to International Applications and Registrations. International applications under § 7.11, subsequent designations under § 7.21, responses to notices of irregularity under § 7.14, requests to record changes in the International Register under § 7.23 and § 7.24, requests to note replacements under § 7.28, requests for transformation under § 7.31, and petitions to the Director to review an action of the Office's Madrid Processing Unit, when filed by mail, must be mailed to: Madrid Processing Unit, 600 Dulany Street, MDE-7B87, Alexandria, VA 22314-5793.

PART 7—RULES OF PRACTICE IN FILINGS PURSUANT TO THE PROTOCOL RELATING TO THE MADRID AGREEMENT CONCERNING THE INTERNATIONAL REGISTRATION OF MARKS

3. The authority citation for part 7 continues to read:

Authority: 15 U.S.C. 1135, 35 U.S.C. 2, unless otherwise noted.

4. Amend § 7.4 by revising paragraphs (b) introductory text, (b)(2) and (c) to read as follows:

§ 7.4 Receipt of correspondence.

* * * * *

(b) Correspondence Filed By Mail. International applications under § 7.11, subsequent designations under § 7.21, responses to notices of irregularity under § 7.14, requests to record changes in the International Register under § 7.23 and § 7.24, requests to note replacement under § 7.28, requests for transformation under § 7.31, and petitions to the Director to review an action of the Office's Madrid Processing Unit, when filed by mail, must be addressed to: Madrid Processing Unit, 600 Dulany Street, MDE-7B87, Alexandria, VA 22314-5793.

(1) * * *

(2) Responses to notices of irregularity under § 7.14, requests to note replacement under § 7.28, and requests for transformation under § 7.31, when filed by mail, will be accorded the date of receipt in the Office.

(c) Hand-Delivered Correspondence. International applications under § 7.11, subsequent designations under § 7.21, responses to notices of irregularity under § 7.14, requests to record changes in the International Register under § 7.23 and § 7.24, requests to note replacement under § 7.28, requests for transformation under § 7.31, and petitions to the Director to review an action of the Office's Madrid Processing Unit, may be delivered by hand during the hours the Office is open to receive correspondence. Madrid-related hand-delivered correspondence must be delivered to the Trademark Assistance Center, James Madison Building—East Wing, Concourse Level, 600 Dulany Street, Alexandria, VA 22314, Attention: MPU.

* * * * *

Dated: April 9, 2007.
Jon W. Dudas,
Under Secretary of Commerce for Intellectual Property and Director of the United States Patent and Trademark Office.

[FR Doc. E7-7116 Filed 4-13-07; 8:45 am]

BILLING CODE 3510-16-P